COMMITTEE FOR PURCHASE FROM PEOPLE WHO ARE BLIND OR SEVERELY DISABLED

Procurement List; Proposed Additions and Deletion

AGENCY: Committee for Purchase from People Who Are Blind or Severely Disabled.

ACTION: Proposed Additions to and Deletions from Procurement List.

SUMMARY: The Committee is proposing to add to the Procurement List products and services to be furnished by nonprofit agencies employing persons who are blind or have other severe disabilities, and to delete a service previously furnished by such agencies.

Comments Must Be Received on or Before: January 22, 2006.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C. 47(a) (2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSNs: Ergo Nylon Ladle

NSN: M.R. 861—Ergo Nylon Ladle

Product/NSNs: Ergo Nylon Spaghetti Server

NSN: M.R. 857—Ergo Nylon Spaghetti Server

NPA: Cincinnati Association for the Blind, Cincinnati, Ohio

Contracting Activity: Defense Commissary Agency (DeCA), Fort Lee, Virginia

Services

Service Type/Location: Medical Transcription (At the following VA Medical Centers and Community Based Outpatient Clinics)

Fayetteville Community Based Outpatient Clinics, Arkansas

G. V. (Sonny) Montgomery VA Medical Center, Jackson, Mississippi

Gulf Coast Community Based Outpatient Clinics, Mississippi

Overton Brooks VA Medical Center, Shreveport, Louisiana

VA Medical Center, 1011 Honor Heights Drive, Muskogee, Oklahoma

VA Medical Center, Biloxi, Mississippi

VA Medical Center, Fayetteville, Arkansas

NPA: Lighthouse for the Blind of Houston, Houston, Texas

Contracting Activity: VA Medical Center—Overton Brooks, Shreveport, Louisiana

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

End of Certification

The following service is proposed for deletion from the Procurement List:

Service

Service Type/Location: Janitorial/Custodial

U.S. Federal Building and Post Office, 522 North Central Avenue, Phoenix, Arizona

NPA: Goodwill Community Services, Inc., Phoenix, Arizona

Contracting Activity: General Services Administration

Sheryl D. Kennerly,
Director, Information Management.

[FR Doc. E5-7763 Filed 12-22-05; 8:45 am]

BILLING CODE 6353-01-P